DEPARTMENT OF LABOR

Employment and Training Administration

[TA-W-73,194]

Beam Global Spirits & Wine, Including On-Site Leased Workers from Adecco, St. Elizabeth Business Health, Guardsmark, and Lab Support, Cincinnati, OH; Amended Certification Regarding Eligibility To Apply for Worker Adjustment Assistance

In accordance with Section 223 of the Trade Act of 1974, as amended (“Act”), 19 U.S.C. 2273, the Department of Labor issued a Certification of Eligibility to apply for Worker Adjustment Assistance on March 26, 2010, applicable to workers of Beam Global Spirits & Wine, including on-site leased workers from Adecco, Cincinnati, Ohio. The notice was published in the Federal Register April 23, 2010 (75 FR 21354).

At the request of the State Agency, the Department reviewed the certification for workers of the subject firm. The workers are engaged in activities related to the production of cordials.

The company reports that workers leased from St. Elizabeth Business Health, Guardsmark, and Lab Support were employed on-site at the Cincinnati, Ohio location of Beam Global Spirits & Wine. The Department has determined that these workers were sufficiently under the control of the subject firm to be considered leased workers.

Based on these findings, the Department is amending this certification to include workers leased from St. Elizabeth Business Health, Guardsmark, and Lab Support working on-site at the Cincinnati, Ohio location of Beam Global Spirits & Wine.

The amended notice applicable to TA-W-73,194 is hereby issued as follows:

“All workers of Beam Global Spirits & Wine, including on-site leased workers from Adecco, St. Elizabeth Business Health, Guardsmark, and Lab Support, Cincinnati, Ohio, who became totally or partially separated from employment on or after December 29, 2008, through March 26, 2012, and all workers in the group threatened with total or partial separation from employment on the date of certification through two years from the date of certification, are eligible to apply for adjustment assistance under Chapter 2 of Title II of the Trade Act of 1974, as amended.”

Signed in Washington, DC, this 28th day of April, 2010.
Elliott S. Kushner,
Certifying Officer, Division of Trade Adjustment Assistance.

[FR Doc. 2010-11281 Filed 5-11-10; 8:45 am]

BILLING CODE 4510-FN-P